COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Date added to the Procurement List: April 15, 2018.

ADDRESSES: Committee for Purchase from People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 2/2/2018 (83 FR 23) and 2/9/2018 (83 FR 28), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Grounds Maintenance Service

Mandatory for: US Army Garrison Miami, US Special Operations Command South, 29401 SW 125th Avenue, Bldg. 600, Homestead Air Reserve Base, FL, US Army Garrison Miami, 3501 Granada Blvd., Coral Gables, FL

Mandatory Source of Supply: Goodwill Industries of South Florida, Inc., Miami, FL

Contracting Activity: DEPT OF THE ARMY, 0410 AQ HQ

Service Type: Base Supply Center Service

Mandatory for: US Air Force, Air Education and Training Command Sheppard Air Force Base, 206 J Avenue, Sheppard AFB, TX

Mandatory Source of Supply: Beacon Lighthouse, Inc., Wichita Falls, TX

Contracting Activity: Dept of the Air Force, FA3020 82 CONS LGC

Service Type: Custodial Service

Mandatory for: National Park Service, Colonial National Historical Park, 10815 George Washington Memorial Highway, Yorktown, VA

Mandatory Source of Supply: VersAbility Resources, Inc., Hampton, VA

Contracting Activity: National Park Service, NER Construction/IA/AE MABO (42000)

Amy B. Jensen,
Director, Business Operations.

[FR Doc. 2018-05379 Filed 3-15-18; 8:45 am]

BILLING CODE 6353-01-P